SMALL BUSINESS ADMINISTRATION

[Disaster Declaration # 10080]

Nevada Disaster # NV-00002 Disaster Declaration

AGENCY: Small Business Administration.

ACTION: Notice.

SUMMARY: This is a Notice of the Presidential declaration of a major disaster for Public Assistance Only for the State of Nevada (FEMA-1583-DR), dated 03/07/2005.

Incident: Heavy rains and flooding.

Incident Period: 01/07/2005 through 01/13/2005.

DATES: Effective Date: 03/07/2005.

Physical Loan Application Deadline Date: 05/06/2005.

ADDRESSES: Submit completed loan applications to: U.S. Small Business Administration, Disaster Area Office 1, 360 Rainbow Blvd. South, 3rd floor, Niagara Falls, NY 14303.

FOR FURTHER INFORMATION CONTACT: A. Escobar, Office of Disaster Assistance, U.S. Small Business Administration, 409 3rd Street, Suite 6050, Washington, DC 20416.

SUPPLEMENTARY INFORMATION: Notice is hereby given that as a result of the President's major disaster declaration on 03/07/2005, applications for Private Non-Profit organizations that provide essential services of a governmental nature may file disaster loan applications at the address listed above or other locally announced locations.

The following areas have been determined to be adversely affected by the disaster:

Primary Counties: Clark Lincoln.

The Interest Rates are:

| Percent
Other (Including Non-Profit Organizations) With Credit Available Elsewhere | 4.750
Businesses and Non-Profit Organizations Without Credit Available Elsewhere | 4.000

The number assigned to this disaster for physical damage is 100806.

(Catalog of Federal Domestic Assistance Number 59008.)
Herbert L. Mitchell,
Associate Administrator for Disaster Assistance.

[FR Doc. 05-6150 Filed 3-28-05; 8:45 am]

BILLING CODE 8025-01-P